DEPARTMENT OF COMMERCE

National Oceanic and Atmospheric Administration

RIN 0648-XM54

Fisheries of the Caribbean, Gulf of Mexico, and South Atlantic; Snapper-Grouper Fishery off the Southern Atlantic States; Amendment 18

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its draft Amendment 18 to the Fishery Management Plan for the Snapper-Grouper Fishery of the South Atlantic Region (FMP).

DATES: Written comments on the scope of the issues to be addressed in the DEIS will be accepted until February 27, 2009, at 5 p.m.

ADDRESSES: Comments may be sent by any of the following methods:

• E-mail: 0648-XM54@noaa.gov.

• Fax: 727-824-5308; Attn: Nikhil Mehta.

• Mail: Nikhil Mehta, NMFS, Southeast Regional Office, 263 13th Avenue South, St. Petersburg, FL 33701.

Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10; fax: 843-769-4520; e-mail: kim.iverson@safmc.net.

SUPPLEMENTARY INFORMATION: The snapper-grouper fishery of the South Atlantic region in the exclusive economic zone is managed under the FMP. The FMP was prepared by the Council and implemented by NMFS under the authority of the Magnuson-Stevens Fishery Conservation and Management Act (Magnuson Stevens Act) by regulations at 50 CFR part 622. Of the 98 species managed by the Council, 73 of these are included in the snapper-grouper management complex.

A NOI for Amendment 18 was published on January 22, 2008 (73 FR 3701), and contained notice of consideration of developing a limited access privilege (LAP) program for the commercial snapper-grouper fishery in the South Atlantic. However, the Council has postponed consideration of a LAP program for the entire snapper-grouper fishery. A second NOI for Amendment 18 was published on April 7, 2008 (73 FR 18782) to announce the development of an amendment to establish a rebuilding plan for the red snapper stock and various management measures to end its overfishing. The Council subsequently moved these items to Amendment 17.

This NOI is intended to inform the public of the preparation of a DEIS in support of the new Amendment 18 to the FMP. During its December 2008 meeting, the Council decided to transfer the following items from Amendment 17 to Amendment 18:

Actions to extend the management range of snapper-grouper north of the Council's current jurisdiction; designate essential fish habitat for snapper-grouper species in the extended management range (New England and Mid-Atlantic); change the golden tilefish fishing year; separate snowy grouper quota into regions; and improve data reporting. The Council is considering extending the range of the snapper-grouper fishery management plan for some species northward in order to conserve and manage these species. The current boundaries would not be changed for golden tilefish, black sea bass, and scup since they are considered separate stocks north and south of Cape Hatteras, North Carolina, and are managed by the Mid-Atlantic Council. The Council is considering modifying the start date of the golden tilefish fishing year to ensure that the regulations for golden tilefish do not impact select fishermen disproportionately. The Council is considering regional quotas for snowy grouper to offer a fair opportunity to fishermen in both southern and northern areas. The Council is also considering actions to improve the accuracy, timing, and quantity of fisheries statistics collected by the current data collection programs for fisheries the Council manages.

In addition to actions listed above, the Council may consider in Amendment 18 limits on participation and effort in the golden tilefish and black sea bass fisheries, and state or regional Annual Catch Limits (ACL) and Annual Catch Targets (ACTs) for the recreational harvest of gag. The Council is concerned that increased restrictions imposed through Amendments 13C and 16 will increase the incentive to target:

1. Golden tilefish in the bottom longline and hook-and-line fisheries.

2. Black sea bass in the pot fishery.

Currently, there is no limit to the number of pot tags issued to fishermen who target black sea bass or the number of pots that can be fished. Fishermen may be leaving large numbers of pots fishing for multiple days due to vessel or weather problems, and these pots could unnecessarily kill many black sea bass. The Council is further concerned that in the gag recreational fishery, fishermen in some areas could have an advantage and catch part of the allowable catch sooner than those in other areas.

Additionally, in Amendment 18 the Council may consider modifying the individual transferable quota (ITQ) program currently in place for the South Atlantic wreckfish fishery to conform with the Magnuson-Stevens Act requirements on holding excessive shares in a LAP program. Furthermore, the Maguson-Stevens Act requires periodic reviews of LAP programs, and if needed, allows for modifications to meet the goals of the program.

Following publication of this NOI, the Council will conduct public scoping meetings to determine the range of issues to be addressed in the DEIS and the associated Amendment 18. A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 3 p.m. In addition to Amendment 18, the Council intends to scope additional amendments at this series of meetings. Separate NOIs will be prepared for each amendment. The meetings will be physically accessible to people with disabilities. Requests for information packets or for sign language interpretation or other auxiliary aids should be directed to the Council (see FOR FURTHER INFORMATION CONTACT).

Monday, January 26, 2009 —Hilton Garden Inn, 5265 International Blvd., North Charleston, SC 29418; phone: 843-308-9330.

Tuesday, January 27, 2009—Bridge Point Hotel, 101 Howell Road, New Bern, NC 28582; phone: 252-636-3637.

Tuesday, February 3, 2009—Key Largo Grande, 97000 Overseas Highway, Key Largo, FL 33037; phone: 305-852-5553.

Wednesday, February 4, 2009—Doubletree Hotel, 2080 N. Atlantic Avenue, Cocoa Beach, FL 32931; phone: 321-783-9222.

Thursday, February 5, 2009—Mighty Eight Air Force Museum, 175 Bourne Avenue, Pooler, GA 31322; phone: 912-748-8888.

Authority: 16 U.S.C. 1801 et seq.

Dated: January 22, 2009.
Alan D. Risenhoover
Director, Office of Sustainable Fisheries, National Marine Fisheries Service.

[FR Doc. E9-1730 Filed 1-27-09; 8:45 am]

BILLING CODE 3510-22-S